DEPARTMENT OF COMMERCE

National Oceanic and Atmospheric Administration

[I.D. 030304D]

Vessel Monitoring Systems (VMS); Approved Mobile Transmitting Units for Use in Alaska Fisheries Requiring VMS

AGENCY: National Marine Fisheries Service (NMFS), National Oceanic and Atmospheric Administration (NOAA), Commerce.

ACTION: Notification of NOAA-approved VMS.

SUMMARY: This document provides notice of NOAA-approved VMS for use by vessels participating in Alaska fisheries requiring VMS, and sets forth relevant features of the monitoring systems.

ADDRESSES: To obtain copies of the list of NOAA-approved VMS mobile transmitting units and VMS communications service providers, or to obtain information regarding the status of VMS systems being evaluated by NOAA, write to NOAA Fisheries, Office for Law Enforcement (OLE), 8484 Georgia Avenue, Suite 415, Silver Spring, MD 20910.

Completed activation forms, must be sent to NOAA Enforcement, P.O. Box 21767, 709 W. 9th Street, Room M09C, Juneau, AK 99802-1767, or faxed to 907-586-7703.

For service provider contact information, see the SUPPLEMENTARY INFORMATION section of this notice, under section III, VMS Provider Addresses.

FOR FURTHER INFORMATION CONTACT: For current listing information contact Mark Oswell, Outreach Specialist, phone: 301-427-2300, fax: 301-427-2055. For questions regarding VMS installation, activation forms, and status of evaluations contact Jonathan Pinkerton, National VMS Program Manager, phone: 301-427-2300, fax: 301-427-2055. For questions regarding VMS unit activation or to acquire this notice, activation procedures, and relevant updates contact the Alaska Enforcement Division VMS staff, phone: 907-586-7225, fax: 907-586-7703.

SUPPLEMENTARY INFORMATION: The sections below list the satellite transceivers and communications service providers approved for use in the Alaska fisheries requiring the use of VMS. Activation guidelines are also provided for each unit or service listed in this notice.

I. VMS Mobile Transceiver Units

A. ArgoNet Mar GE

North American Collection and Location by Satellite, Inc. (NACLS) is the sole point-of-contact for the ArgoNet service. NACLS provides: Installation of the ArgoNet MAR GE transmitter on the vessel, the ArgoNet satellite service, and delivery of position reports to OLE and the vessel owner.

Please note that any “assistance” or “emergency” functions integrated into a VMS unit are not supported by NOAA, although they may be supported by other parties.

New ArgoNet installations are prohibited on or after the published date of this notice. Units installed prior to the published date of this notice are approved to the end of their service life.

B. INMARSAT-C Transceivers

The INMARSAT-C satellite communications VMS transmitting units that meet the minimum technical requirements for Alaska fisheries requiring VMS are the Thrane & Thrane Fishery “Capsat” (part number TT-3022D-NMFS) and the Thrane & Thrane Fishery “Mini-C” (part number TT-3026-NMFS). The address for the Thrane & Thrane distributor (LandSea Systems) is provided under the heading VMS Provider Addresses.

B1. Thrane & Thrane Fishery “Capsat” TT-3022D-NMFS

The TT-3022D-NMFS transceiver consists of an integrated GPS/Inmarsat-C unit in the wheelhouse and an antenna mounted atop the vessel. The unit is factory pre-configured for NMFS VMS operations (non-Global Maritime Distress & Safety System (non-GMDSS)). Satellite commissioning services are provided by LandSea Systems.

Automatic GPS position reporting starts after transceiver installation and power activation onboard the vessel. The unit is a car radio-sized transceiver using a floating 10 to 32 volts DC (VDC) power supply. The unit is configured for automatic reduced position transmissions when the vessel is stationary (i.e., in port). It allows for port stays without power drain or power shut down, and the unit restarts normal position transmission automatically when the vessel goes to sea.

The outside antenna, model TT-3005M, is a compact omni-directional Inmarsat-C/GPS antenna, providing operation down to +/-15 degrees of elevation.

A configuration option is available to automatically send position reports to a private e-mail address, such as a fleet management company. Another available option is the ability to send and receive private e-mail and other messages with the purchase and installation of an input device such as a laptop, personal computer, or message display terminal.

Please note that any “assistance” or “emergency” functions integrated into a VMS unit are not supported by NOAA, although they may be supported by other parties.

B2. Thrane & Thrane Fishery “Mini-C” TT-3026-NMFS

The TT-3026-NMFS transceiver consists of an integrated GPS/Inmarsat-C unit mounted atop the vessel. The unit is factory pre-configured for NMFS VMS operations (non-Global Maritime Distress & Safety System (non-GMDSS)). Satellite commissioning services are provided by LandSea Systems.

Automatic GPS position reporting starts after transceiver installation and power activation onboard the vessel. The unit is an integrated transceiver/antenna/GPS design using a floating 10 to 32 VDC power supply, and is configured for automatic reduced position transmissions when the vessel is stationary (i.e., in port). It allows for port stays without power drain or power shut down, and restarts normal position transmission automatically when the vessel goes to sea.

The TT-3026-NMFS provides operation down to +/-15 degree angles. Although the unit has the capability of two-way communication to send and receive private e-mail and other messages, it can only perform these operations when additional equipment that is not required by NMFS is purchased (i.e., a laptop, personal computer, or message display terminal). A configuration option is available to automatically send position reports to a private e-mail address, such as a fleet management company.

Please note that any “assistance” or “emergency” functions integrated into a VMS unit are not supported by NOAA, though they may be supported by other parties.

A vessel owner wishing to purchase either of these systems may contact the entity identified in this notice under the heading VMS Provider Addresses. The owner should identify themselves as a vessel owner in an “Alaska fishery requiring VMS,” so the transceiver set can be configured for Alaska fisheries.

To use the TT-3022D-NMFS or the TT-3026-NMFS, the vessel owner must establish an Inmarsat-C system use contract with an NMFS-approved Inmarsat-C communications service provider. The owner will be required to complete Inmarsat-C “Registration for Service Activation for Maritime Mobile Earth Station,” and should consult with LandSea Systems when completing the form.

LandSea Systems will perform the following services before shipment: (1) configure the transceiver according to OLE specifications for Alaska fisheries requiring VMS, (2) download the predetermined NMFS position reporting and broadcast command identification numbers into the unit, (3) test the unit to ensure proper operation when installation of the unit has been completed on the vessel, and (4) forward the Inmarsat service provider and the transceiver identifying information to OLE.

The vessel owner is required to fax or mail the Alaska VMS Activation Form directly to Alaska Enforcement Division VMS, P.O. Box 21767, Juneau, AK 99802-1767, phone 907-586-7225, fax 907-586-7703.

C. ORBCOMM Transceivers

The ORBCOMM satellite communications VMS transmitting unit that meets the minimum technical requirements for Alaska fisheries requiring VMS is the Stellar ST2500G (part number ST2500G-NMFS). The address for ORBCOMM Value Added Resellers (VAR) and their regional sales outlets around the country are provided under the heading VMS Provider Addresses.

The Stellar ST2500G-NMFS transceiver consists of an integrated GPS/ORBCOMM satellite communicator mounted in the wheelhouse and antennas mounted atop the vessel. The unit is pre-configured and tested for NMFS VMS operations. Satellite commissioning services are available from several VMS providers.

Automatic GPS position reporting starts after transceiver installation and power activation onboard the vessel. The unit is a car radio-sized transceiver powered by any 12 to 32 VDC power supply. It is factory configured for automatic reduced position transmissions when the vessel is stationary (i.e., in port) which allows for port stays without power drain or unit shut down. The unit restarts normal position transmission automatically when the vessel goes to sea.

The ST2500G has an omni-directional VHF antenna, providing operation from +/-5 degrees above the horizon. A configuration option is available to automatically send position reports to a private e-mail address or to a secure web site where the data is displayed on a map and in tabular form. Another available option is the ability to send and receive private e-mail from a laptop, personal computer or specific handheld devices. A complete list of devices, supported operating systems and available software solutions can be obtained from any ORBCOMM Value Added Reseller.

Please note that any “assistance” or “emergency” functions integrated into a VMS unit are not supported by NOAA, though they may be supported by other parties.

A vessel owner wishing to purchase the Stellar ST2500G transceiver will be required to complete an ORBCOMM “Provisioning” form via the Internet at www.orbcomm.com. If assistance is required, the owner may consult with the VAR or one of the entities identified in this notice under the heading VMS Provider Addresses. The unit will be configured specifically for Alaska fisheries requiring VMS.

The ORBCOMM VMS VAR will perform the following services before shipment: (1) configure the transceiver according to OLE specifications for Alaska fisheries requiring VMS, (2) download the predetermined NMFS position reporting applications into the unit, (3) test the unit to ensure proper operation prior to shipping, and (4) forward the service provider and the transceiver identifying information to OLE and test the unit when the installation has been completed on the vessel.

II. Communications Service Providers

OLE has approved the below-listed communications service providers: ORBCOMM, Stratos, Telenor, and Xantic satellite communications services.

A. ORBCOMM

NMFS recommends, for vendor warranty and customer service purposes, that the vessel owner and the VAR have on record the following identifying information: (1) signed and dated receipts and contracts, (2) satellite communicator identification number, (3) VAR customer number, (identification number/unit surname name combination), (4) e-mail address of satellite communicator (surname@ORBCOMM.net), (5) owner name, (6) vessel name, and (7) vessel documentation or registration number.

VMS units must be installed in accordance with vendor instructions and specifications. Installation can be performed by experienced crew, a VAR, or an electronics specialist. All installation costs are paid by the owner. The vessel owner is required to fax or mail the Alaska VMS Activation Fax directly to Alaska Enforcement Division VMS, P.O. Box 21767, Juneau, AK 99802-1767, phone 907-586-7225, fax 907-586-7703.

The owner must confirm the Stellar ST2500G-NMFS operation and communications service to ensure that position reports are automatically sent to and received by OLE before leaving on their first fishing trip requiring VMS. OLE does not regard the fishing vessel as meeting the requirements until position reports are automatically received. For confirmation purposes, owners must contact the Alaska Enforcement Division VMS staff, phone 907-586-7225, fax 907-586-7703.

ORBCOMM is a store-and-forward data messaging service allowing users to send and receive information virtually anywhere in the world. ORBCOMM supports a wide variety of applications including plain text Internet-based e-mail, position and weather reporting, and remote equipment monitoring and control. Mariners can use ORBCOMM free of charge to send critical safety at-sea messages as part of the U.S. Coast Guard's Automated Mutual-Assistance Vessel Rescue System. VMS services are being sold through specific ORBCOMM VARs.

ORBCOMM customer service supports the security and privacy of vessel accounts and messages by requiring password authentication of vessel owners or agents and OLE personnel to prevent unauthorized changes or inquiries, and by separating private messages from OLE messages. (OLE presently requires VMS-related position reports, only.)

Billing is separated between accounts for the vessel owner and OLE. VMS position reports and vessel-initiated messaging are paid by the vessel owner. Messaging initiated from OLE operations center is paid by OLE.

ORBCOMM provides customer service through its VARs to establish and support two-way transmission of transceiver unit configuration commands between the transceiver and land-based control centers. This supports OLE's message needs and, optionally, fishermen's private e-mail needs.

The owner should refer to and follow the configuration, installation, and service activation procedures for the Stellar ST2500G-NMFS satellite communicator.

B. INMARSAT-C Communications Providers

NMFS recommends, for vendor warranty and customer service purposes, that the vessel owner, Stratos, Telenor and Xantic have on record the following identifying information: (1) Signed and dated receipts and contracts, (2) transceiver serial number, (3) Stratos, Telenor or Xantic customer number, user name and password, (4) e-mail address of transceiver, (5) Inmarsat identification number, (6) owner name, (7) vessel name, (8) vessel documentation or registration number, and (9) mobile earth station license (FCC license).

VMS units must be installed in accordance with vendor instructions and specifications and can be performed by experienced crew or by an electronics specialist, costs are paid by the owner. The vessel owner is required to fax or mail the Alaska VMS Activation Fax directly to Alaska Enforcement Division VMS, P.O. Box 21767, Juneau, AK 99802-1767, phone 907-586-7225, fax 907-586-7703.

The owner must confirm the TT-3022D-NMFS or TT-3026-NMFS operation and communications service to ensure that position reports are automatically sent to and received by OLE before leaving on their first fishing trip under VMS. OLE does not regard the fishing vessel as meeting the requirements until position reports are automatically received. For confirmation purposes, contact Alaska Enforcement Division VMS staff, phone 907-586-7225, fax 907-586-7703.

B1. Telenor Satellite Services

Inmarsat-C is a store-and-forward data messaging service, and allows users to send and receive information virtually anywhere in the world, on land, at sea, and in the air. Inmarsat-C supports a wide-variety of applications including Internet-based e-mail, position and weather reporting, a free daily news service, and remote equipment monitoring and control. Mariners can use Inmarsat-C free of charge to send critical safety at-sea messages as part of the U.S. Coast Guard's Automated Mutual-Assistance Vessel Rescue System and NOAA's Shipboard Environmental Acquisition System programs.

Telenor Vessel Monitoring System Services is being sold through LandSea Systems, Inc. For the LandSea and Telenor addresses, look in this notice under the heading VMS Provider Addresses.

B2. Xantic

Xantic is a provider of vessel monitoring services to the fishing industry. By installing an OLE-approved Inmarsat-C transceiver on the vessel, fishermen can send and receive e-mail, to and from land. The transceiver automatically sends vessel position reports to OLE, and is fully compliant with Coast Guard search and rescue centers. Xantic vessel monitoring system services are being sold through LandSea Systems, Inc. For the LandSea and Xantic addresses, look in this notice under the heading VMS Provider Addresses.

Telenor and Xantic products and services are offered through LandSea Systems who supports the security and privacy of vessel accounts and messages by requiring password authentication for vessel owners or agents, and OLE personnel to prevent unauthorized changes or inquiries, and separating of private messages from OLE messages. (OLE currently requires VMS-related position reports, only.)

Billing is separated between accounts for the vessel owner and the OLE. VMS position reports and vessel-initiated messaging are paid by the vessel owner. Messaging initiated from OLE operations center is paid by NOAA.

LandSea Systems provides customer service for Telenor and Xantic users to support and establish two-way transmission of transceiver unit configuration commands between the transceiver and land-based control centers. This supports OLE's message needs and, optionally, fishermen's private message needs. A configuration option is available to automatically send position reports to a private e-mail address, such as a fleet management company.

B3. Stratos

Stratos provides all Inmarsat services globally and has extensive experience in the provision of Inmarsat-C messaging and tracking services. Stratos has distributors situated throughout the United States that can provide equipment, installation, commissioning and all other necessary services in compliance with NMFS requirements.

By installing an OLE approved Inmarsat-C transceiver on the vessel in accordance with vendor instructions and specifications and OLE requirements, fishermen can also easily send and receive e-mail, to and from land and can also setup individual crew member accounts onboard for e-mail to family and friends without billing to the vessel, but direct billing to crew member.

Vessel owners wishing to use Stratos, Telenor or Xantic services must purchase an Inmarsat-C transceiver approved for the fishery. The owner must complete an Inmarsat-C system use contract with Stratos, Telenor or Xantic, obtain a mobile earth station license (FCC requirement). The transceiver must be commissioned with Inmarsat according to Stratos, Telenor or Xantic's instructions. The owner should refer to and follow the configuration, installation, and service activation procedures for the specific transceiver purchased.

III. VMS Provider Addresses

For ORBCOMM and Stellar ST2500G-NMFS information, contact:

ORBCOMM, LLC, 21700 Atlantic Boulevard, Dulles, VA 20166 USA;

voice: 800-ORBCOMM (USA) or 703-433-6300; fax: 703-433-6400; or website www.ORBCOMM.com.

For Stratos service or to locate the nearest Stratos distributor, contact sales@stratosglobal.com, 1-888-766-1313. In Seattle, Dave Brengelmann at 1-506-633-5888 dave.brengelmann@stratosglobal.com or in Florida, Roberto Darias, 1-954-217-2277, or e-mail: roberto.darias@stratosglobal.com.

For Thrane & Thrane TT-3022D-NMFS or TT-3026-NMFS information, contact Tom Kelly, Marine Products, LandSea Systems, Inc.,509 Viking Drive, Suite K, L & M, Virginia Beach, VA 23452; voice: 757-463-9557; fax: 757-463-9581, e-mail: TMK@LandSeaSystems.com; website: http://www.landseasystems.com.

For Telenor or Xantic information, contact LandSea Systems Inc., Donna Sherman, 509 Viking Drive, Suite K, L, M, Virginia Beach, VA 23452; voice: 757 463-9557; fax: 757 463-9581 e-mail: airtime@landseasystems.com. Telenor and Xantic Customer Service, contact the address above or e-mail: TMK@LandSeaSystems.com. For alternate Telenor, contact Courtney Coleman, Manager COMSAT-C Services Marketing, 6560 Rock Spring Dr., Bethesda, MD 20817; phone: 301-838-7720; e-mail: courtney.coleman@telenor-usa.com. For alternate Xantic, contacts Folef Hooft Graafland, 6100 Hollywood Boulevard, Suite 410, Hollywood, FL 33024; voice: (954) 962-9908 ext. 11; fax: (954) 962-1164; cellular: (954) 214-2609; e-mail: folef.hooftgraafland@Xantic.net; Andre Cortese, 1211 Connecticut Ave., NW, Suite 504, Washington, DC 20036; telephone number: 202-785-5615; e-mail: andre.cortese@Xantic.net; Bobbie Thach, 1211 Connecticut Ave, NW Suite 504, Washington, DC 20036; voice: (202) 785-5614; fax: (202) 785-5616; e-mail: bobbie.thach@Xantic.net.

Authority: 16 U.S.C. 1801, et seq.

Date: April 9, 2004.
William T. Hogarth,
Assistant Administrator for Fisheries, National Marine Fisheries Service.

[FR Doc. 04-8591 Filed 4-14-04; 8:45 am]

BILLING CODE 3510-22-S